DEPARTMENT OF HEALTH AND HUMAN SERVICES

Agency for Healthcare Research and Quality

Preliminary Measure Sets for the National Healthcare Quality Report and the National Healthcare Disparities Report

Request for Comments

The Agency for Healthcare Research and Quality (AHRQ) announces a request for public comment on the Proposed 2004 Measure Sets to be used in preparing the National Healthcare Quality Report (NHQR) and National Healthcare Disparities Report (NHDR). The NHQR and NHDR are congressionally mandated reports (see 42 U.S.C. 299b-2(b)(2) regarding an annual report on National trends in health care quality and see 42 U.S.C. 299a-1(a)(6) regarding an annual report on disparities in health care among AHRQ's priority populations). The 2003 Measure Sets for the reports were generated through extensive input with public and private organizations, including a call for measures to Federal agencies and private organizations AHRQ issued through the Quality Interagency Coordination Task Force (QuIC), from October 2000-February 2001. The Institute of Medicine issued a separate call to private organizations from June-July 2000, the results of which were shared with the Department of Health and Human Services (DHHS). Interagency DHHS working groups then reviewed and revised the candidate measures. A public hearing on the revised measures was held in July 2002 with the National Committee on Vital and Health Statistics. The 2003 reports to Congress, based on these measure sets, were released in December 2003. AHRQ and the interagency working groups for the reports have been working to update the measure sets based on comments received during the Departmental clearance of the 2003 reports and the two public comment periods for the 2003 reports. AHRQ and the interagency working groups are now seeking comments on the revised measure sets for each report. In general, AHRQ is interested in comments on (1) the extent to which each proposed new measure set consists of measures that meet the criteria of importance, scientific soundness, and feasibility; (2) the appropriateness of the data sources for each measure; and (3) the extent to which each set has balance, comprehensiveness, and robustness.

AHRQ is also looking for comments on the set of proposed measures that will be highlighted in the 2004 NHQR and NHDR. The proposed highlight measures are a subset of the larger measure sets for the NHQR and NHDR and will be featured in the report text.

Availability of Preliminary Measure Set

A copy of the Preliminary Measure Set for the 2004 NHQR is available from AHRQ Web site at: http://www.ahrq.gov/qual/nhqr04/premeasures.htm.

A copy of the Preliminary Measure Set for the 2004 NHDR is available from AHRQ Web site at: http://www.ahrq.gov/qual/nhdr04/premeasures.htm.

Copies of the List of Proposed Highlight Measures are available from the AHRQ Web site at http://www.ahrq.gov/qual/nhqr04/himeasures.htm.

For organizations without access to the Internet, AHRQ will make a paper version available either through overnight mail or by fax upon written request. Requests for paper versions of the preliminary measure set should be faxed to the fax number below.

Comments Deadline

Written comments will be accepted by 30 days after publication. For submission of written comments and additional information: Ed Kelley, PhD, Director, National Healthcare Quality Report, Center for Quality Improvement and Patient Safety, Agency for Healthcare Research and Quality, 540 Gaither Road, Rockville, Maryland 20850, e-mail: ekelley@ahrq.gov or absent internet access, fax to Dr. Edward Kelley at (301) 427-1341.

Public Review of Comments

Comments and responses received will be available for public inspection at AHRQ's Information Resource Center (IRC) public reading room between the hours of 8:30 a.m. and 5 p.m. on regular business days at 540 Gaither Road, Rockville, Maryland 20850. Arrangements for viewing public comments may be made by calling (301) 427-1287.

Responses may also be accessed through AHRQ's Electronic Freedom of Information Reading Room.

Dated: May 24, 2004.
Carolyn M. Clancy,
Director.

[FR Doc. 04-12107 Filed 5-27-04; 8:45 am]

BILLING CODE 4160-90-M